DEPARTMENT OF TRANSPORTATION

Surface Transportation Board

[STB Finance Docket No. 34648]

Minnesota Commercial Railway Company—Trackage Rights Exemption—BNSF Railway Company ¹

¹ Effective January 20, 2005, The Burlington Northern and Santa Fe Railway Company changed its name to BNSF Railway Company.

BNSF Railway Company (BNSF) has agreed to a modified trackage rights agreement governing Minnesota Commercial Railway Company's (MNNR) overhead trackage rights over a BNSF line of railroad between MNNR's connecting trackage at Union Yard, Minneapolis, MN, and trackage located east of 15th Avenue SE., in Minneapolis, MN, comprising the Southeast Minneapolis Switching District (SEMSD), a total of distance of approximately 777 feet. The modified agreement will change the maintenance obligations to promote operating and maintenance efficiencies and better align the parties' maintenance obligations relative to usage.²

² The trackage rights were originally granted as incidental trackage rights, as part of MNNR's acquisition of approximately 5 miles of rail line located in Minneapolis, MN, known as the SEMSD. See Minnesota Commercial Railway Company-Acquisition and Operation Exemption-Certain Lines of The Burlington Northern and Santa Fe Railway Company, STB Finance Docket No. 33606 (STB served June 19, 1998).

The transaction was scheduled to be consummated on January 28, 2005.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34648, must be filed with the Surface Transportation Board, 1925 K Street, NW., Washington, DC 20423-0001. In addition, a copy of each pleading must be served on Sarah W. Bailiff, 2500 Lou Menk Drive, P.O. Box 961039, Fort Worth, TX 76161-0039.

Board decisions and notices are available on our Web site at http://www.stb.dot.gov.

Decided: February 1, 2005.
By the Board, David M. Konschnik, Director, Office of Proceedings.
Vernon A. Williams,
Secretary.

[FR Doc. 05-2490 Filed 2-9-05; 8:45 am]

BILLING CODE 4915-01-P